FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-2878, or (email) Michael.Grimm@fema.gov.

SUPPLEMENTARY INFORMATION: The Federal Emergency Management Agency makes the final determinations listed below of modified base flood elevations for each community listed. These modified elevations have been published in newspapers of local circulation and ninety (90) days have elapsed since that publication. The Administrator has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Connecticut: | Middlesex (FEMA Docket No. D-7531) | City of Middletown | September 10, 2002; September 17, 2002; The Middletown Press | The Honorable Domenique S. Thornton, Mayor of the City of Middletown, 245 deKoven Drive, P.O. Box 1300, Middletown, Connecticut 06457 | December 17, 2002 | 090068 C
Florida: | Seminole (FEMA Docket No. D-7529) | City of Altamonte Springs | August 30, 2002; September 6, 2002; The Orlanda Sentinel | Mr. Phillip D. Penland, Manager of the City of Altamonte Springs, 225 Newburyport Avenue, Altamonte Springs, Florida 32701 | December 6, 2002 | 120290 E
Broward (FEMA Docket No. D-7527) | Unincorporated Areas | July 8, 2002; July 15, 2002; Sun-Sentinel | Mr. Roger J. Desjarlais, Broward County Administrator, 115 South Andrews Avenue, Room 409, Fort Lauderdale, Florida 33301 | July 1, 2002 | 125093 F
Charlotte (FEMA Docket No. D-7531) | Unincorporated Areas | September 19, 2002; September 26, 2002; Herald Tribune (Charlotte County Edition) and Sun Herald | Ms. Pamela Brangaccio, Charlotte County Interim Administrator, 18500 Murdock Circle, Port Charlotte, Florida 33948 | September 12, 2002 | 120061 D
Dade (FEMA Docket No. D-7531) | Unincorporated Areas | September 13, 2002; September 20, 2002; The Miami Herald | Mr. Steve Shriver, Dade County Manager, 111 N.W. First Street, Suite 910, Miami, Florida 33128 | September 6, 2002 | 120635 J
Dade (FEMA Docket No. D-7531) | City of Miami | September 10, 2002; September 17, 2002; The Miami Herald | The Honorable Manuel A. Diaz, Mayor of the City of Miami, 3500 Pan American Drive, Miami, Florida 33133 | September 3, 2002 | 120650 J
Broward (FEMA Docket No. D-7527) | City of Parkland | July 8, 2002; July 15, 2002; Sun-Sentinel | The Honorable Sal Pagliara, Mayor of the City of Parkland, 6600 University Drive, Parkland, Florida 33067 | July 1, 2002 | 120051 F
Seminole (FEMA Docket No. D-7529) | Unincorporated Areas | August 30, 2002; September 6, 2002; The Orlando Sentinel | Mr. Kevin Grace, Manager of Seminole County, Seminole County Services Building, 1101 East First Street, Sanford, Florida 32771 | December 6, 2002 | 120289 E
Georgia: | Richmond (FEMA Docket No. D-7531) | City of Augusta | September 5, 2002; September 12, 2002; The Augusta Chronicle | The Honorable Bob Young, Mayor of the City of Augusta, City-County Municipal Building, 530 Greene Street, Augusta, Georgia 30911 | December 12, 2002 | 130158 E
Catoosa (FEMA Docket No. D-7531) | City of Fort Oglethorpe | September 4, 2002; September 11, 2002; Chattanooga Free Press | The Honorable Judson L. Burkhart, Mayor of the City of Fort Oglethorpe, P.O. Box 5509, 500 City Hall Drive, Fort Oglethorpe, Georgia 30742 | December 11, 2002 | 130248 B
Illinois: | Kane (FEMA Docket No. D-7529) | Village of Sleepy Hollow | August 9, 2002; August 16, 2002; The Courier News | Mr. Stephen K. Pickett, Village of Sleepy Hollow President, 1 Thorobred Lane, Sleepy Hollow, Illinois 60118 | August 1, 2002 | 170331
Kane (FEMA Docket No. D-7529) | Village of West Dundee | August 9, 2002; August 16, 2002; The Daily Herald | Mr. Larry Keller, Village of West Dundee President, 102 South 2nd Street, West Dundee, Illinois 60118. | August 1, 2002 | 170335
Maine: | Knox (FEMA Docket No. D-7529) | Town of Camden | August 15, 2002; August 22, 2002; The Camden Herald | Mr. Roger Moody, Manager of the Town of Camden, P.O. Box 1207, Camden, Maine 04843 | July 17, 2002 | 230074 B
Pennsylvania: | Bucks (FEMA Docket No. D-7527) | Borough of Richland | August 14, 2002; August 21, 2002; The Intelligencer | Mr. Steven Tamburri, Chairman of the Township of Richland Board of Supervisors, Suite A, 1328 California Road, Quakertown, Pennsylvania 18951 | November 20, 2002 | 421095 F
Virginia: | Prince William (FEMA Docket No. D-7527) | Town of Dumfries | August 9, 2002; August 16, 2002; Potomac News | The Honorable Melvin Bray, Mayor of the Town of Dumfries, P.O. Box 56, Dumfries, Virginia 22026 | July 31, 2002 | 510120 D
Independent City (FEMA Docket No. D-7531) | City of Roanoke | September 20, 2002; September 27, 2002; Roanoke Times | The Honorable Ralph K. Smith, Mayor of the City of Roanoke, 215 Church Avenue, S.W., Room 452, Roanoke, Virginia 24011 | September 12, 2002 | 510130 D
Fauquier (FEMA Docket No. D-7527) | Town of Warrenton | August 15, 2002; August 22, 2002; Fauquier Citizen | Mr. Kenneth L. McLawhon, Warrenton Town Manager, 18 Court Street, Warrenton, Virginia 20186 | July 16, 2002 | 510057 B
West Virginia: | Berkeley (FEMA Docket No. D-7531) | Unincorporated Areas | September 20, 2002; September 27, 2002; Martinsburg Journal | Mr. Howard Strauss, President of Berkeley County, Board of Commissioners, 126 West King Street, Martinsburg, West Virginia 25401 | September 4, 2002 | 540282 B

(Catalog of Federal Domestic Assistance No. 83.100, “Flood Insurance.”)
Dated: February 3, 2003.
Anthony S. Lowe,
Administrator, Federal Insurance and Mitigation Administration.

[FR Doc. 03-3335 Filed 2-10-03; 8:45 am]

BILLING CODE 6718-04-P